SMALL BUSINESS ADMINISTRATION

National Women's Business Council

AGENCY: U.S. Small Business Administration.

ACTION: Notice of open Federal advisory committee meeting.

SUMMARY: The SBA is issuing this notice to announce the location, date, time, and agenda for the next meeting of the National Women's Business Council (NWBC). The meeting will be open to the public.

DATES: The meeting will be held on Monday, October 17, 2011 from approximately 8:30 a.m. to 12 p.m., and from 1:30 p.m. to 4 p.m. EST.

ADDRESSES: The meeting will be held at the Marriott Marquis Atlanta, 265 Peachtree Center Avenue, Atlanta, Georgia 30303.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator.

The purpose of the meeting is to receive and discuss: Current and prospective research that the NWBC is undertaking; discussion of policy recommendations to be made in the 2011 annual report to the President, Congress and the U.S. Small Business Administration; the introduction of one new member to the NWBC; and other NWBC related business. The afternoon session will invite attendees to participate in roundtable discussions regarding issues facing women entrepreneurs and business owners.

FOR FURTHER INFORMATION CONTACT: The meeting is open to the public however advance notice of attendance is requested. Anyone wishing to attend or make a presentation to the NWBC must either e-mail their interest to info@nwbc.gov or call the main office number at 202-205-3850.

For more information, please visit our Web site at http://www.nwbc.gov.

Dan S. Jones,
SBA Committee Management Officer.

[FR Doc. 2011-25903 Filed 10-5-11; 8:45 am]

BILLING CODE 8025-01-P